DEPARTMENT OF THE TREASURY

Agency Information Collection Activities; Submission for OMB Review; Comment Request; Return of Organization Exempt From Income Tax

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before February 26, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Molly Stasko by emailing PRA@treasury.gov, calling (202) 622-8922, or viewing the entire information collection request at www.reginfo.gov.

SUPPLEMENTARY INFORMATION:

Internal Revenue Service (IRS)

Title: Tax Exempt Forms and Schedules.

OMB Control Number: 1545-0047.

Type of Review: Revision of a currently approved collection.

Description: These forms and schedules are needed to determine that Internal Revenue Code (IRC) section 501(a) tax-exempt organizations fulfill the operating conditions within the limitations of their tax exemption. The data is also used for general statistical purposes. These forms are used by Tax Exempt organizations to specify their items of gross income, receipts and disbursements.

Forms: 990, 990-BL, 990-EZ, 990-N, 990-PF, 990-T, 990-W, 1023, 1023-EZ, 1023-Interactive, 1024, 1024-A, 1028, 1120-POL, 4720, 5578, 5884-C, 6069, 6497, 8038, 8038-B, 8038-CP, 8038-G, 8038-GC, 8038-R, 8038-T, 8038-TC, 8282, 8328, 8330, 8453-E.O., 8453-X, 8718, 8868, 8870, 8871, 8872, 8879-E.O., 8886-T, 8899 and all other related forms, schedules, and attachments.

Affected Public: Tax-Exempt Organizations.

Estimated Number of Respondents: 1,599,000.

Total Estimated Time: 52.47 million hours.

Estimated Time per Respondent: 32.8 hours.

Total Estimated Out-of-Pocket Costs: $1.47 billion.

Estimated Out-of-Pocket Cost per Respondent: $921.

Total Estimated Monetized Burden (Labor Costs): $4.08 billion.

Estimated Total Monetized Burden (Labor Costs) per Respondent: $2,554.

Note: Amounts below are estimates for FY 2021. Reported time and cost burdens are national averages and do not necessarily reflect a “typical” case. Most taxpayers experience lower than average burden, with taxpayer burden varying considerably by taxpayer type. Totals may not add due to rounding.

Fiscal Year 2021 Estimates for Form 990 Series of Returns and Related Forms and Schedules
| FY 20 | Program change due to agency discretion | FY 21
Number of Taxpayers | 1,606,200 | (7,200) | 1,599,000
Burden in Hours | 52,450,000 | 20,000 | 52,470,000
Out-of-Pocket Costs | $1,496,500,000 | ($23,400,000) | $1,473,100,000
Monetized Total Burden (Labor Costs) | $4,168,800,000 | ($84,700,000) | $4,084,100,000

Fiscal Year 2021 Form 990 Series Tax Compliance Cost Estimates
| Form 990 | Form 990-EZ | Form 990-PF | Form 990-T | Form 990-N
Projections of the Number of Returns to be Filed with IRS | 321,100 | 253,200 | 120,200 | 165,500 | 742,000
Estimated Average Time per Response (Hours) | 85 | 45 | 47 | 40 | 2
Estimated Average Out-of-Pocket Costs per Response | $2,600 | $500 | $2,000 | $1,500 | $10
Estimated Average Monetized Burden (Labor Costs) per Response | $8,000 | $1,200 | $3,900 | $4,400 | $30
Estimated Total Time (Hours) for all Filers | 27,220,000 | 11,450,000 | 5,600,000 | 6,570,000 | 1,630,000
Estimated Total Out-of-Pocket Costs for all Filers | $849,800,000 | $139,000,000 | $240,200,000 | $237,300,000 | $6,800,000
Estimated Total Monetized Burden | $2,559,000,000 | $312,700,000 | $467,800,000 | $719,800,000 | $24,900,000
* Detail may not add to total due to rounding.

Authority: 44 U.S.C. 3501 et seq.

Dated: January 21, 2021.
Molly Stasko,
Treasury PRA Clearance Officer.

[FR Doc. 2021-01732 Filed 1-26-21; 8:45 am]

BILLING CODE 4830-01-P